DEPARTMENT OF ENERGY

Federal Energy Regulatory Commission

Combined Notice of Filings #1

Take notice that the Commission received the following electric corporate filings:

Docket Numbers: EC23-45-000.

Applicants: St. Paul Cogeneration, LLC.

Description: St. Paul Cogeneration, LLC submits Supplement to Application under Federal Power Act Section 203.

Filed Date: 2/15/23.

Accession Number: 20230215-5163.

Comment Date: 5 p.m. ET 2/27/23.

Take notice that the Commission received the following exempt wholesale generator filings:

Docket Numbers: EG23-83-000.

Applicants: Braes Bayou II, LLC.

Description: Braes Bayou II, LLC submits Notice of Self-Certification of Exempt Wholesale Generator Status.

Filed Date: 2/16/23.

Accession Number: 20230216-5071.

Comment Date: 5 p.m. ET 3/9/23.

Take notice that the Commission received the following electric rate filings:

Docket Numbers: ER21-2459-000.

Applicants: Tenaska Power Services Co.

Description: Refund Report of Tenaska Power Services Co.

Filed Date: 2/15/23.

Accession Number: 20230215-5201.

Comment Date: 5 p.m. ET 3/8/23.

Docket Numbers: ER23-636-001.

Applicants: Southwest Power Pool, Inc.

Description: Tariff Amendment: Deficiency Response—Deficiency Payment Waiver Process to be effective 2/14/2023.

Filed Date: 2/16/23.

Accession Number: 20230216-5100.

Comment Date: 5 p.m. ET 3/9/23.

Docket Numbers: ER23-688-001.

Applicants: BP Energy Retail Company California LLC.

Description: Tariff Amendment: Amendment to Tariff Filing to be effective 12/22/2022.

Filed Date: 2/16/23.

Accession Number: 20230216-5186.

Comment Date: 5 p.m. ET 3/9/23.

Docket Numbers: ER23-689-001.

Applicants: BP Energy Retail Company LLC.

Description: Tariff Amendment: Amendment to Tariff Filing to be effective 12/22/2022.

Filed Date: 2/16/23.

Accession Number: 20230216-5185.

Comment Date: 5 p.m. ET 3/9/23.

Docket Numbers: ER23-1125-000.

Applicants: ISO New England Inc.

Description: ISO New England Inc. Capital Budget Quarterly Filing for Fourth Quarter of 2022.

Filed Date: 2/10/23.

Accession Number: 20230210-5234.

Comment Date: 5 p.m. ET 3/3/23.

Docket Numbers: ER23-1126-000.

Applicants: PJM Interconnection, L.L.C.

Description: § 205(d) Rate Filing: Amendment to ISA, Service Agreement No. 6239; Queue No. AE2-343 to be effective 4/17/2023.

Filed Date: 2/16/23.

Accession Number: 20230216-5019.

Comment Date: 5 p.m. ET 3/9/23.

Docket Numbers: ER23-1127-000.

Applicants: American Electric Power Service Corporation, Ohio Power Company, PJM Interconnection, L.L.C.

Description: § 205(d) Rate Filing: American Electric Power Service Corporation submits tariff filing per 35.13(a)(2)(iii: AEP submits one Facilities Agreements, SA No. 1427 to be effective 4/18/2023.

Filed Date: 2/16/23.

Accession Number: 20230216-5046.

Comment Date: 5 p.m. ET 3/9/23.

Docket Numbers: ER23-1128-000.

Applicants: PJM Interconnection, L.L.C.

Description: § 205(d) Rate Filing: Amendment to ISA, Service Agreement No. 6245; Queue No. AE2-221 to be effective 4/17/2023.

Filed Date: 2/16/23.

Accession Number: 20230216-5087.

Comment Date: 5 p.m. ET 3/9/23.

Docket Numbers: ER23-1129-000.

Applicants: Hecate Energy Highland LLC.

Description: § 205(d) Rate Filing: Cert of Concurrence to 1st Amended SFA w/New Market Solar ProjectCo 2, LLC to be effective 2/17/2023.

Filed Date: 2/16/23.

Accession Number: 20230216-5097.

Comment Date: 5 p.m. ET 3/9/23.

Docket Numbers: ER23-1130-000.

Applicants: PJM Interconnection, L.L.C.

Description: § 205(d) Rate Filing: Original UCSA, Service Agreement No. 6787; Queue Position J857 to be effective 1/20/2023.

Filed Date: 2/16/23.

Accession Number: 20230216-5122.

Comment Date: 5 p.m. ET 3/9/23.

Take notice that the Commission received the following electric reliability filings

Docket Numbers: RD22-4-001.

Applicants: Registration of Inverter-based Resources.

Description: North American Electric Reliability Corporation submits Request for Approval of the Inverter Based Resources Work Plan and Request for Expedited Review.

Filed Date: 2/15/23.

Accession Number: 20230215-5191.

Comment Date: 5 p.m. ET 3/17/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 16, 2023.
Debbie-Anne A. Reese,
Deputy Secretary.

[FR Doc. 2023-03735 Filed 2-22-23; 8:45 am]

BILLING CODE 6717-01-P